NATIONAL AERONAUTICS AND SPACE ADMINISTRATION

[Notice (02-086)]

NASA Advisory Council, Space Science Advisory Committee, Education and Public Outreach Task Force; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council (NAC), Space Science Advisory Committee (SScAC), Education and Public Outreach (E/PO) Task Force.

DATES: Wednesday, August 7, 2002, 9 a.m. to 5:30 p.m., Thursday, August 8, 2002, 9 a.m. to 5:30 p.m., and Friday, August 9, 2002, 9 a.m. to 3 p.m.

ADDRESSES: Marriott Metro Center Hotel, located at 775 12th Street, NW., Washington, DC.

FOR FURTHER INFORMATION CONTACT: Dr. Jeffrey D. Rosendhal, Code S, National Aeronautics and Space Administration, Washington, DC 20546, (202) 358-2470.

SUPPLEMENTARY INFORMATION: The meeting will be open to the public up to the capacity of the room. The agenda for the meeting includes the following topics:

—Panel Discussion with Mission E/PO Leads

—Panel Discussion with OSS Discipline Scientists and Program Executives

—Preliminary Results from the Lesley University Phase III Evaluation Study

—Discussion/Formulation of Task Force Findings and Recommendations

—Writing Assignments

—Schedule of Activities for Completing the Task Force Study

It is imperative that the meeting be held on these dates to accommodate the scheduling priorities of the key participants. Visitors will be requested to sign a visitor's register.

Dated: July 9, 2002.
Sylvia K. Kraemer,
Advisory Committee Management Officer, National Aeronautics and Space Administration.

[FR Doc. 02-17547 Filed 7-11-02; 8:45 am]

BILLING CODE 7510-01-P